DEPARTMENT OF EDUCATION

National Institute on Disability and Rehabilitation Research; Notice of Proposed Priority

AGENCY: Office of Special Education and Rehabilitative Services, Department of Education.

ACTION: Notice of proposed priority.

SUMMARY: The Assistant Secretary for Special Education and Rehabilitative Services proposes funding a priority on Disability in Rural Communities under the Rehabilitation Research and Training Center (RRTC) Program for the National Institute on Disability and Rehabilitation Research (NIDRR) for fiscal years (FY) 2002-2004. The Assistant Secretary takes this action to focus research attention on an identified national need. We intend this priority to improve the rehabilitation services and outcomes for individuals with disabilities.

DATES: We must receive your comments on or before June 5, 2002.

ADDRESSES: Address all comments about this proposed priority to Donna Nangle, U.S. Department of Education, 400 Maryland Avenue, SW., room 3412, Switzer Building, Washington, DC 20202-2645. If you prefer to send your comments through the Internet, use the following address: donna.nangle@ed.gov

You must include the term Disability in Rural Communities in the subject line of your electronic message.

FOR FURTHER INFORMATION CONTACT: Donna Nangle. Telephone: (202) 205-5880.

If you use a telecommunications device for the deaf (TDD), you may call the TDD number at (202) 205-4475 or via the Internet: donna.nangle@ed.gov

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority.

We invite you to assist us in complying with the specific requirements of Executive Order 12866 and its overall requirement of reducing the regulatory burden that might result from this proposed priority. Please let us know of any further opportunities we should take to reduce potential costs or increase potential benefits while preserving the effective and efficient administration of the program.

During and after the comment period, you may inspect all public comments about this proposed priority in room 3412, Switzer Building, 330 C Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

We will announce the final priority in a notice in the Federal Register. We will determine the final priority after considering responses to this notice and other information available to the Department. This notice doesnot preclude us from proposing or funding an additional priority, subject to meeting applicable rulemaking requirements.

Note: This notice does not solicit applications. In any year in which we choose to use this proposed priority, we invite applications through a notice published in the Federal Register. When inviting applications we designate the priority as absolute, competitive preference, or invitational.

The proposed priority refers to President Bush's New Freedom Initiative (NFI). The NFI can be accessed on the Internet at: http://www.whitehouse.gov/news/freedominitiative/freedominitiative.html.

The proposed priority also refers to NIDRR's Long-Range Plan (the Plan). The Plan can be accessed on the Internet at the following site: http://www.ed.gov/offices/OSERS/NIDRR/Products. Description of the Rehabilitation Research and Training Centers (RRTC) Program.

The RRTCs conduct coordinated and integrated advanced programs of research targeted toward the production of new knowledge, to improve rehabilitation methodology and service delivery systems, alleviate or stabilize disabling conditions, or promote maximum social and economic independence for persons with disabilities. RRTCs operate in collaboration with institutions of higher education or providers of rehabilitation or other appropriate services. Additional information on the RRTC program can be found at: http://www.ed.gov/offices/OSERS/NIDRR/Programs/res_program.html#RRTC.

General Requirements

The RRTC must:

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers for national excellence in rehabilitation research for individuals with disabilities, their representatives, providers, and other interested parties.

Priority

Background

Individuals living in rural areas experience a disproportionately higher rate of disability compared to individuals living in metropolitan areas (National Health Interview Survey, Washington, DC: Department of Health and Human Services, 1992). In addition to the high rate of disability in rural America, individuals with disabilities residing in these areas are impacted by other salient and challenging issues such as employment, economic and community development, and health-related concerns.

Rural areas continue to lag behind urban areas in economic and community development, including employment opportunities, (Johnson S., Focusing on Differences: A New Approach for Rural Policy? The Main Street Economist, Center for the Study of Rural America, Federal Reserve Bank of Kansas City, July 2001). Job opportunities and economic development are inextricably associated with economic policy initiatives. Historically, rural policy and economic development endeavors have been more attentive to specific economic sectors such as agriculture and manufacturing and have not adequately addressed attention to community and individual needs (Johnson, 2001).

Research will help in understanding the impact of rural policy and economic development initiatives on systems providing services for individuals with disabilities and their influence on employment outcomes for individuals with disabilities. Further, research can assist with development and examination of effective policies and strategies for addressing existing and emerging problems in rural populations.

Emerging disabilities and health-related issues, such as secondary conditions, are a critical challenge for rural healthcare providers and individuals with disabilities living in rural communities. There have only been limited studies to address the unique needs of individuals with disabilities within a wellness and health promotion context.

Traditionally, individuals with disabilities are viewed from an illness perspective. More specifically, the medical model orientation to disability has led to an inadequate emphasis on health promotion and disease prevention activities, as well as contributed to the frequency to which secondary conditions are experienced by persons with primary disabilities living in rural areas (U.S. Department of Health and Human Services, Healthy People 2010: With Understanding and Improving Health and Objectives, 2nd ed, Washington, DC: U.S. Government Printing Office, Nov. 2000; http://www.health.gov/healthypeople).

Research will help to illuminate the impact of inadequate health promotion and prevention activities on the health status of individuals with disabilities, including secondary disabling conditions. Further, research will assist with identifying effective intervention strategies for improving health outcomes, and enhance understanding of the healthcare needs of individuals with disabilities in rural communities, secondary conditions, and the needs of healthcare providers.

While healthcare issues present critical challenges, transportation issues also have adverse consequences for individuals with disabilities and service providers in rural communities. Participation in the community is often limited for individuals with disabilities in rural communities because transportation services are either not available or inadequate to meet community needs. Current research cites insufficient transportation as one of the more serious problems for individuals with disabilities living in rural areas (O'Day B., Issues in Rural Independence: Revisited, Independent Living Research Utilization at TIRR, 2001; http://www.ilru.org/ilnet/files/bookshelf/rural/revisited).

The President's New Freedom Initiative (NFI) also cites the lack of adequate transportation as a primary barrier for individuals with disabilities. The NFI identifies the need to test new transportation ideas and to increase access to alternate means of transportation, such as vans with specialty lifts, modified automobiles, and ride-share programs for those who cannot access buses or other forms of mass transportation (The President's New Freedom Initiative, 2001) http://www.whitehouse.gov/news/freedominitiative/freedominitiative.html.

In conclusion, individuals with disabilities living in rural areas face a unique challenge, that impact their lives as a result of living in these communities. To address these challenges and find viable solutions, NIDRR is interested in research activities that include individuals with disabilities, particularly as researchers. Inclusion of individuals with disabilities provides the opportunity for consumers to influence research direction and policy. Participatory research has the potential of enhancing the relevance and applicability of research results, particularly, when individuals with disabilities are participants at every stage of the research process (Olkin R., What Psychotherapists Should Know About Disability, Guilford, 1999), including planning, development, and evaluation of research activities, and especially when the role of consumers is not limited to the role of research subject.

Proposed Priority

The Assistant Secretary proposes to establish an RRTC on Disability in Rural Communities. The purpose of the absolute priority is to generate new knowledge through research and development activities that improves the effectiveness of rehabilitation services. The RRTC project must propose research and development activities that are focused on each of the three areas of inquiry: (1) Rural Employment, and Community and Economic Development Policy; (2) Rural Health and Disability; and (3) Rural Community Transportation, as follows:

(1) Rural Employment, and Community and Economic Development Policy: (a) Identify economic and community development policies and evaluate their impact on the employment status of individuals with disabilities living in rural areas, public and private service delivery systems, and service providers;

(b) Investigate the effectiveness of policies and strategies for addressing existing and emerging problems for individuals with disabilities in rural communities.

(c) Identify and evaluate employment policies and employment strategies, including those used in State vocational rehabilitation systems, and investigate the impact on employment outcomes for individuals with disabilities.

(2) Rural Health and Disability:

(a) Identify and investigate the needs of healthcare providers and health care needs of individuals with disabilities in rural communities and factors contributing to secondary conditions.

(b) Investigate the impact of inadequate health promotion, wellness, and prevention activities on the health status and disability outcomes for individuals with disabilities, including secondary disabling conditions.

(c) Develop and evaluate health promotion intervention strategies or identify and evaluate effective health promotion strategies for improving health outcomes for individuals with disabilities in rural communities, including an emphasis on prevention of secondary conditions. Investigate the impact of inadequate wellness and health promotion on healthcare service systems in rural communities.

(d) Develop and test training materials for healthcare providers and consumers to enhance knowledge of disability, secondary conditions, and effective wellness and health promotion intervention strategies.

(3) Rural Community Transportation:

(a) Identify or develop and test new transportation ideas and investigate their effectiveness to increase access for individuals with disabilities, and assess whether they are cost effective.

(b) Investigate the impact of alternate means of transportation on disability outcomes, especially employment and health outcomes, and

(c) Identify and investigate the impact of transportation policies, programs, and resource allocations on access and community integration for individuals with disabilities; In carrying out the purposes of the priority, the RRTC shall:

• Disseminate information about disability issues in rural communities;

• Use advances in telecommunications and web-based technologies, where appropriate, to ensure broad access to research results and their practical application; and

• Involve individuals with disabilities, their family members, and consumers, as appropriate, in all stages of the research process and related activities.

Applicable Program Regulations: 34 CFR part 350.

Electronic Access to This Document

You may review this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number 84.133B, Rehabilitation Research and Training Center)

Program Authority: 29 U.S.C. 762(g) and 764(b)(2).

Dated: April 29, 2002.
Robert H. Pasternack,
Assistant Secretary for Special Education and, Rehabilitative Services.

[FR Doc. 02-11203 Filed 5-3-02; 8:45 am]

BILLING CODE 4000-01-U